DEPARTMENT OF HOMELAND SECURITY

U.S. Citizenship and Immigration Services

[CIS No. 2790-25; DHS Docket No. USCIS-2021-0003]

RIN 1615-ZB86

Extension of the 2023 Designation of Venezuela for Temporary Protected Status

AGENCY: U.S. Citizenship and Immigration Services (USCIS), Department of Homeland Security (DHS).

ACTION: Notice of Temporary Protected Status (TPS) extension.

SUMMARY: Through this notice, the Department of Homeland Security (DHS) announces that the Secretary of Homeland Security (Secretary) is extending the 2023 designation of Venezuela for Temporary Protected Status (TPS) for 18 months, beginning on April 3, 2025, and ending on October 2, 2026. Existing TPS beneficiaries who wish to extend their status through October 2, 2026, must re-register during the re-registration period described in this notice.

DATES: Extension of the 2023 Designation of Venezuela for TPS begins on April 3, 2025, and will remain in effect for 18 months. For registration instructions, see the Registration Information section below.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 240-721-3000.

• For more information on TPS, including guidance on the registration process and additional information on eligibility, please visit the USCIS TPS web page at https://www.uscis.gov/tps. You can find specific information about Venezuela's TPS designation by selecting “Venezuela” from the menu on the left side of the TPS web page.

• If you have additional questions about TPS, please visit https://uscis.gov/tools. Our online virtual assistant, Emma, can answer many of your questions and point you to additional information on our website. If you cannot find your answers there, you may also call our USCIS Contact Center at 800-375-5283 (TTY 800-767-1833).

• Applicants seeking information about the status of their individual cases may check Case Status Online, available on the USCIS website at uscis.gov, or visit the USCIS Contact Center at https://www.uscis.gov/contactcenter.

• You can also find more information at local USCIS offices, listed on the USCIS website at https://www.uscis.gov/about-us/find-a-uscis-office, after this notice is published.

SUPPLEMENTARY INFORMATION:

Table of Abbreviations

BIA—Board of Immigration Appeals

CFR—Code of Federal Regulations

DHS—U.S. Department of Homeland Security

DoS—U.S. Department of State

EAD—Employment Authorization Document

FNC—Final Nonconfirmation

Form I-131—Application for Travel Documents, Parole Documents, and Arrival/Departure Records

Form I-765—Application for Employment Authorization

Form I-797—Notice of Action (Approval Notice)

Form I-797C—Notice of Action (Receipt Notice)

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

PDF—Portable Document Format

SAVE—USCIS Systematic Alien Verification for Entitlements Program

Secretary—Secretary of Homeland Security

TPS—Temporary Protected Status

TTY—Text Telephone

USCIS—U.S. Citizenship and Immigration Services

U.S.C.—United States Code

Registration Information

Extension of the 2023 Designation of Venezuela for TPS: The 18-month extension of Venezuela's October 3, 2023 TPS designation begins on April 3, 2025, and will remain in effect for 18 months, ending on October 2, 2026. The extension allows existing TPS beneficiaries to retain TPS through October 2, 2026, if they otherwise continue to meet the eligibility requirements for TPS. Existing TPS beneficiaries, including those registered under the October 3, 2023 TPS designation or the prior March 9, 2021 TPS designation, who wish to extend their status through October 2, 2026, must re-register during the re-registration period described in this notice.

Re-registration: The re-registration period for existing beneficiaries runs from January 17, 2025, through September 10, 2025. (Note: It is important for re-registrants to timely re-register during the re-registration period and not to wait until their Employment Authorization Documents (EADs) expire, as delaying re-registration could result in gaps in their employment authorization documentation.)

Purpose of this Action (TPS)

Through this notice, DHS sets forth procedures necessary for nationals of Venezuela (or individuals having no nationality who last habitually resided in Venezuela) to re-register for TPS and apply to renew their EAD with USCIS.

Re-registration is limited to individuals who have previously registered for TPS under either of the two prior designations of Venezuela and whose applications have been granted. If you registered for TPS under the October 23, 2023 designation and do not re-register properly within the re-registration period, USCIS may withdraw your TPS following appropriate procedures. See 8 CFR 244.14.

For individuals who have already been granted TPS under either of Venezuela's designations, the re-registration period runs from January 17, 2025, through September 10, 2025. USCIS will issue new EADs with an October 2, 2026 expiration date to eligible beneficiaries granted TPS under either of Venezuela's designations who timely re-register and apply for EADs. Given the time frames involved with processing TPS re-registration applications, DHS recognizes that not all re-registrants may receive a new EAD before their current EAD expires. Accordingly, through this Federal Register notice, DHS automatically extends through April 2, 2026, the validity of certain EADs previously issued under the TPS designations of Venezuela. As proof of continued employment authorization through April 2, 2026, TPS beneficiaries can show their EAD with the notation A12 or C19 under Category and a “Card Expires” date of September 10, 2025, April 2, 2025, March 10, 2024, or September 9, 2022. This notice explains how TPS beneficiaries and their employers may determine if an EAD is automatically extended and how this affects the Form I-9, Employment Eligibility Verification, E-Verify, and USCIS Systematic Alien Verification for Entitlements (SAVE) processes.

Individuals who have an Application for Temporary Protected Status (Form I-821) for Venezuela or TPS-related Application for Employment Authorization (Form I-765) that was still pending as of January 17, 2025, do not need to file either application again. If USCIS approves an individual's pending Form I-821, USCIS will grant the individual TPS through October 2, 2026. Similarly, if USCIS approves a pending TPS-related Form I-765, USCIS will issue the individual a new EAD that will be valid through the same date.

What Is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, are authorized to work, and may obtain EADs if they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, if it is still valid beyond the date TPS terminates.

When was Venezuela designated for TPS?

Venezuela was initially designated on March 9, 2021, on the basis of extraordinary and temporary conditions in Venezuela that prevented nationals of Venezuela from returning in safety. See Designation of Venezuela for Temporary Protected Status and Implementation of Employment Authorization for Venezuelans Covered by Deferred Enforced Departure, 86 FR 13574 (Mar. 9, 2021). The TPS designation was extended for 18 months on September 8, 2022. See Extension of the Designation of Venezuela for Temporary Protected Status, 87 FR 55024 (Sept. 8, 2022). On October 3, 2023, the TPS designation was extended for 18 months and separately redesignated for 18 months based upon the same factual circumstances and legal considerations pursuant to section 244 of the INA, 8 U.S.C. 1254a. See Extension and Redesignation of Venezuela for Temporary Protected Status, 88 FR 68130 (Oct. 3, 2023).

What authority does the Secretary have to extend the designation of Venezuela for TPS?

Section 244(b)(1) of the INA, 8 U.S.C. 1254a(b)(1), authorizes the Secretary, after consultation with appropriate agencies of the U.S. Government, to designate a foreign state (or part thereof) for TPS if the Secretary determines that certain country conditions exist.¹ The decision to designate any foreign state (or part thereof) is a discretionary decision, and there is no judicial review of any determination with respect to the designation, termination, or extension of a designation. See INA sec. 244(b)(5)(A), 8 U.S.C. 1254a(b)(5)(A). The Secretary, in their discretion, may then grant TPS to eligible nationals of that foreign state (or individuals having no nationality who last habitually resided in the designated foreign state). See INA sec. 244(a)(1)(A), 8 U.S.C. 1254a(a)(1)(A).

¹ INA section 244(b)(1) ascribes this power to the Attorney General. Congress transferred this authority from the Attorney General to the Secretary of Homeland Security. See Homeland Security Act of 2002, Pub. L. 107-296, 116 Stat. 2135 (2002). The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. INA sec. 244(b)(1); 8 U.S.C. 1254a(b)(1).

At least 60 days before the expiration of a foreign state's TPS designation or extension, the Secretary, after consultation with appropriate U.S. Government agencies, must review the conditions in the foreign state designated for TPS to determine whether they continue to meet the conditions for the TPS designation. See INA sec. 244(b)(3)(A), 8 U.S.C. 1254a(b)(3)(A). If the Secretary determines that the conditions in the foreign state continue to meet the conditions for TPS designation, the designation will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B).

Will there continue to be two separate filing processes for TPS designations for Venezuela?

No. USCIS has evaluated the operational feasibility and resulting impact on stakeholders of having two separate filing processes. Operational challenges in the identification and adjudication of Venezuela TPS filings and confusion among stakeholders exist because of the two separate TPS designations. To date, USCIS has created operational measures to process Venezuela TPS cases for both designations; however, it can most efficiently process these cases by consolidating the filing processes for the two Venezuela TPS populations. To decrease confusion among stakeholders, ensure optimal operational processes, and maintain the same eligibility requirements, upon publication of this Notice, individuals registered under either the March 9, 2021 TPS designation or the October 3, 2023 TPS designation will be allowed to re-register under this extension. This would not, however, require that a beneficiary registered under the March 9, 2021 designation to re-register at this time. Rather, it would provide such individuals with the option of doing so. Venezuela TPS beneficiaries who appropriately apply for TPS or re-register under this Notice and are approved by USCIS will obtain TPS through the same extension date of October 2, 2026.

Why is the Secretary extending the TPS designation for Venezuela through October 2, 2026?

DHS has reviewed country conditions in Venezuela. Based on the review, including input received from Department of State (DoS) and other U.S. Government agencies, the Secretary has determined that an 18-month TPS extension is warranted because extraordinary and temporary conditions supporting Venezuela's TPS designation remain, and it is not contrary to the national interest of the United States to permit Venezuelan TPS beneficiaries to remain in the United States temporarily.

Overview

Venezuela is experiencing “a complex, serious and multidimensional humanitarian crisis.” ² The crisis has reportedly disrupted every aspect of life in Venezuela. “Basic services like electricity, internet access, and water are patchy; malnutrition is on the rise; the healthcare system has collapsed; and children receive poor or no education. Inflation rates are also among the highest in the world.” ³ Venezuela's “complex crisis” has pushed Venezuelans into “poverty, hunger, poor health, crime, desperation and migration.” ⁴ Moreover, Nicolás Maduro's declaration of victory in the July 28, 2024 presidential election—which has been contested as fraudulent by the opposition—“has been followed by yet another sweeping crackdown on dissent.” ⁵

² Annual Report 2023—Chapter IV.B—Venezuela, Inter-American Commission on Human Rights (IACHR), Apr. 25, 2024, pg. 730, available at: https://www.oas.org/en/iachr/docs/annual/2023/chapters/IA2023_Cap_4B_Venezuela_ENG.PDF (last visited Aug. 20, 2024).

³ Iván Reyes, As election looms, Venezuelans see-saw between hope and fear, The New Humanitarian, Jul. 8, 2024, available at: https://www.thenewhumanitarian.org/photo-feature/2024/07/08/election-looms-venezuela-see-saw-between-hope-and-fear (last visited Aug. 20, 2024).

⁴ Regina Garcia Cano, As Maduro shifts from migration denier to defender, Venezuelans consider leaving if he is reelected, The Associated Press, updated May 29, 2024, available at: https://apnews.com/article/venezuela-election-migrants-maduro-9ba01c2cd7246adb9369bf69941d986a (last visited Aug. 20, 2024).

⁵ Sergio Martínez-Beltrán and Marian Carrasquero, Venezuelans in US anxiously watch home crisis, brace for new migration surge, Morning Edition, National Public Radio (NPR), Aug. 12, 2024, available at: https://www.npr.org/2024/08/11/nx-s1-5066867/venezuela-maduro-election-migration-usborder-immigration (last visited Aug. 12, 2024).

Food Insecurity

Food insecurity is also a significant challenge in Venezuela.⁶ “Despite a recent economic recovery [. . .], many families are going hungry and depending on aid to feed themselves.” ⁷ Reports indicate that Venezuela “suffers the second-highest level of hunger in South America,” with “[s]ome 5.1 million people [. . .] not getting enough to eat.” ⁸ The U.N. Special Rapporteur on the right to food reported that “[f]ood insecurity, malnutrition and deterioration in livelihoods is cited as the primary cause for the mass migration out of the country.” ⁹

⁶ Clare Ribando Seelke, Venezuela: Political Crisis and U.S. Policy, Congressional Research Service (CRS), updated Sep. 1, 2023, pg. 1, available at: https://crsreports.congress.gov/product/pdf/IF/IF10230 (last visited Aug. 22, 2024).

⁷ Mariela Nava, In Venezuela, hunger stalks presidential election, Reuters, Jul. 9, 2024, available at: https://www.reuters.com/world/americas/venezuela-hunger-stalks-presidential-election-2024-07-09/ (last visited Aug. 22, 2024).

⁸ Mariela Nava, In Venezuela, hunger stalks presidential election, Reuters, Jul. 9, 2024, available at: https://www.reuters.com/world/americas/venezuela-hunger-stalks-presidential-election-2024-07-09/ (last visited Aug. 22, 2024).

⁹ End of Mission Statement; U.N. Special Rapporteur on the right to food by Mr. Michael Fakhri; Visit to Venezuela (Bolivarian Republic of), 1-14 February 2024, Office of the High Commissioner for Human Rights (OHCHR), Feb. 14, 2024, pg. 3, available at: https://www.ecoi.net/en/file/local/2104669/20240214-eom-statement-venezuela-sr-food-en.pdf (last visited Aug. 22, 2024).

Notably, the problem of food shortages and scarcity has abated; ¹⁰ however, “supply issues have been replaced by affordability ones.” ¹¹ In 2023, “86% of the population reported not having enough money to buy the food needed in their household,” while around 22% “went permanently hungry at times during the year.” ¹² Additionally, “chronic malnutrition is surging among children, leading to stunting, wasting, delayed cognitive development, and higher risks of illness more generally.” ¹³

¹⁰ Regina Garcia Cano, Venezuelans turn to odd jobs and gambling to stretch meager wages they hope will grow after election, The Associated Press, updated July 24, 2024, available at: https://apnews.com/article/venezuela-presidential-election-maduro-crisis-machado-edmundo-4c7f83a5a44a6d80f12d8cad8b67b026 (last visited Aug. 20, 2024); Gabriela Mesones Rojo and Iván Reyes, Hunger, healthcare, and schools: Reasons to leave Venezuela (along with a Maduro poll win), The New Humanitarian, Jun. 25, 2024, available at: https://www.thenewhumanitarian.org/analysis/2024/06/25/hunger-healthcare-schools-reasons-leave-venezuela-maduro-poll-win (last visited Aug. 22, 2024); Follow-Up Report on the Complex Humanitarian Emergency in Venezuela, HumVenezuela, Nov. 2023, pg. 27, available at: https://humvenezuela.com/wp-content/uploads/2024/02/FOLLOW-UP-REPORT-ON-THE-COMPLEX-HUMANITARIAN-EMERGENCY-IN-VENEZUELA-2023-2.pdf (last visited Aug. 22, 2024).

¹¹ Regina Garcia Cano, UN-backed food expert calls on Venezuela to tackle hunger and urges end to economic sanctions, The Associated Press, Feb. 14, 2024, available at: https://apnews.com/article/venezuela-food-insecurity-hunger-malnutrition-un-maduro-afb4af4978c09cf0f3e54e1cfef981b5 (last visited Aug. 22, 2024).

¹² Gabriela Mesones Rojo and Iván Reyes, Hunger, healthcare, and schools: Reasons to leave Venezuela (along with a Maduro poll win), The New Humanitarian, Jun. 25, 2024, available at: https://www.thenewhumanitarian.org/analysis/2024/06/25/hunger-healthcare-schools-reasons-leave-venezuela-maduro-poll-win (last visited Aug. 22, 2024).

¹³ Gabriela Mesones Rojo and Iván Reyes, Hunger, healthcare, and schools: Reasons to leave Venezuela (along with a Maduro poll win), The New Humanitarian, Jun. 25, 2024, available at: https://www.thenewhumanitarian.org/analysis/2024/06/25/hunger-healthcare-schools-reasons-leave-venezuela-maduro-poll-win (last visited Aug. 22, 2024).

Access to Basic Services (Including Electricity, Water, and Fuel)

The lack of access to basic services including electricity, water, and fuel represents another component of Venezuela's crisis.¹⁴ Venezuela “experiences regular power outages,” ¹⁵ and “interruptions in electrical service” are common and reportedly occur daily.¹⁶ The population suffering intermittent and prolonged power failures increased from 25.9% to 61.9% between 2022 and 2023.” ¹⁷ Additionally, Venezuelans face “growing challenges to access water and sanitation since the water supply is not continuous, and the quality of water has deteriorated.” ¹⁸ “Potable water is frequently not available for long periods,” ¹⁹ and many households lack reliable access to potable water.²⁰

¹⁴ Florantonia Singer, Caracas: The ordeal of living in a city with failed public services, El País (Spa.), Sep. 24, 2023, available at: https://english.elpais.com/international/2023-09-24/caracas-the-ordeal-of-living-in-a-city-with-failed-public-services.html (last visited Aug. 23, 2024).

¹⁵ Venezuela Country Security Report, Overseas Security Advisory Council (OSAC), U.S. Dep't of State, last updated Mar. 26, 2024, available at: https://www.osac.gov/Content/Report/34f99e62-2161-412d-bfeb-1e752539f6bf (last visited Aug. 23, 2024).

¹⁶ Clare Ribando Seelke, Venezuela: Political Crisis and U.S. Policy, Congressional Research Service (CRS), updated Sep. 1, 2023, pg. 1, available at: https://crsreports.congress.gov/product/pdf/IF/IF10230 (last visited Aug. 23, 2024); Gabriela Mesones Rojo and Iván Reyes, Hunger, healthcare, and schools: Reasons to leave Venezuela (along with a Maduro poll win), The New Humanitarian, Jun. 25, 2024, available at: https://www.thenewhumanitarian.org/analysis/2024/06/25/hunger-healthcare-schools-reasons-leave-venezuela-maduro-poll-win (last visited Aug. 23, 2024).

¹⁷ Follow-Up Report on the Complex Humanitarian Emergency in Venezuela, HumVenezuela, Nov. 2023, pg. 21, available at: https://humvenezuela.com/wp-content/uploads/2024/02/FOLLOW-UP-REPORT-ON-THE-COMPLEX-HUMANITARIAN-EMERGENCY-IN-VENEZUELA-2023-2.pdf (last visited Aug. 23, 2024).

¹⁸ Annual Report 2023—Chapter IV.B—Venezuela, Inter-American Commission on Human Rights (IACHR), Apr. 25, 2024, pg. 732, available at: https://www.oas.org/en/iachr/docs/annual/2023/chapters/IA2023_Cap_4B_Venezuela_ENG.PDF (last visited Aug. 26, 2024).

¹⁹ Venezuela Country Security Report, Overseas Security Advisory Council (OSAC), U.S. Dep't of State, last updated Mar. 26, 2024, available at: https://www.osac.gov/Content/Report/34f99e62-2161-412d-bfeb-1e752539f6bf (last visited Aug. 26, 2024).

²⁰ Clare Ribando Seelke, Venezuela: Political Crisis and U.S. Policy, Congressional Research Service (CRS), updated Sep. 1, 2023, pg. 1, available at: https://crsreports.congress.gov/product/pdf/IF/IF10230 (last visited Aug. 26, 2024).

Venezuela is also impacted by fuel shortages.²¹ Venezuela experienced “years of painful fuel shortages that kept drivers in line for sometimes days to fill up their cars and severely restricted Venezuela's industrial and agricultural activity.” ²² Natural gas—“the fuel essential for cooking, generating power and feeding petrochemical plants and factories—has also been frequently scarce.” ²³ In 2023, 69.4% of households were impacted by failures in the availability of domestic gas service.²⁴ Furthermore, most Venezuelans without direct gas in their homes for cooking instead “rely on domestic gas services that households pay for by filling gas cylinders at state plants, one per family per month.” ²⁵ However, “[t]he capacity of each cylinder averages about 25 days and cannot always be replenished regularly.” ²⁶

²¹ Luke Taylor, `To be reunited . . . would be a dream': Venezuelan exiles' fate hangs on vote, The Guardian, Jul. 25, 2024, available at: https://www.theguardian.com/global-development/article/2024/jul/25/venezuelan-exiles-election-maduro (last visited Aug. 27, 2024).

²² Fabiola Zerpa and Lucia Kassai, Oil Majors Fill Venezuela Gas Pumps, Easing Years of Shortages, Bloomberg, Feb. 9, 2024, available at: https://www.rigzone.com/news/wire/oil_majors_fill_venezuela_gas_pumps_easing_years_of_shortages-09-feb-2024-175693-article/ (last visited Sep. 6, 2024).

²³ Marianna Parraga, Deisy Buitrago, and Mircely Guanipa, Whoever wins election, Venezuela faces natural gas problem, Reuters, Jul, 24, 2024, available at: https://www.reuters.com/world/americas/gas-rich-venezuela-next-president-faces-problem-producing-it-2024-07-24/ (last visited Aug. 26, 2024).

²⁴ Follow-Up Report on the Complex Humanitarian Emergency in Venezuela, HumVenezuela, Nov. 2023, pg. 22, available at: https://humvenezuela.com/wp-content/uploads/2024/02/FOLLOW-UP-REPORT-ON-THE-COMPLEX-HUMANITARIAN-EMERGENCY-IN-VENEZUELA-2023-2.pdf (last visited Aug. 26, 2024).

²⁵ Follow-Up Report on the Complex Humanitarian Emergency in Venezuela, HumVenezuela, Nov. 2023, pg. 22, available at: https://humvenezuela.com/wp-content/uploads/2024/02/FOLLOW-UP-REPORT-ON-THE-COMPLEX-HUMANITARIAN-EMERGENCY-IN-VENEZUELA-2023-2.pdf (last visited Aug. 26, 2024).

²⁶ Follow-Up Report on the Complex Humanitarian Emergency in Venezuela, HumVenezuela, Nov. 2023, pg. 22, available at: https://humvenezuela.com/wp-content/uploads/2024/02/FOLLOW-UP-REPORT-ON-THE-COMPLEX-HUMANITARIAN-EMERGENCY-IN-VENEZUELA-2023-2.pdf (last visited Aug. 26, 2024).

Health Crisis

The collapse of Venezuela's healthcare system is one of the most severe aspects of its humanitarian crisis.²⁷ Venezuela's health system is marked by deteriorated infrastructure, lack of medical equipment, poor maintenance, lack of public services, deficiencies in the provision of medicines and medical supplies, and power and water cuts, in addition to corruption in the health sector, and underfunded and understaffed health centers.²⁸ Consequently, health indicators in Venezuela have worsened since the collapse of the Venezuelan health system in 2016.²⁹

²⁷ Gabriela Mesones Rojo and Iván Reyes, Hunger, healthcare, and schools: Reasons to leave Venezuela (along with a Maduro poll win), The New Humanitarian, Jun. 25, 2024, available at: https://www.thenewhumanitarian.org/analysis/2024/06/25/hunger-healthcare-schools-reasons-leave-venezuela-maduro-poll-win (last visited Aug. 21, 2024).

²⁸ Venezuela—Country Focus, European Union Agency for Asylum (EUAA), Nov. 2023, pg. 33, available at: https://coi.euaa.europa.eu/administration/easo/PLib/2023_11_EUAA_COI_Report_Venezuela_Country_Focus.pdf (last visited Aug. 21, 2024).

²⁹ International Protection Needs of Venezuelan Nationals, Amnesty International, Oct. 2023, pg. 5, available at: https://www.ecoi.net/en/file/local/2099475/AMR5373312023ENGLISH.pdf (last visited Aug. 21, 2024).

Venezuela's public health system has reportedly lost an estimated “70 percent of its capacity since 2016,” and “millions of individuals are unable to access adequate health care” in Venezuela.³⁰ Additionally, Venezuela faces “persistent shortages and deficiencies in the supply of medicines, supplies, equipment and medical treatments.” ³¹

³⁰ Annual Report 2023—Chapter IV.B—Venezuela, Inter-American Commission on Human Rights (IACHR), Apr. 25, 2024, pg. 731, available at: https://www.oas.org/en/iachr/docs/annual/2023/chapters/IA2023_Cap_4B_Venezuela_ENG.PDF (last visited Aug. 21, 2024).

³¹ Annual Report 2023—Chapter IV.B—Venezuela, Inter-American Commission on Human Rights (IACHR), Apr. 25, 2024, pg. 731, available at: https://www.oas.org/en/iachr/docs/annual/2023/chapters/IA2023_Cap_4B_Venezuela_ENG.PDF (last visited Aug. 21, 2024).

Education

Reports indicate that “dilapidated infrastructure, the lack of teachers and of public transportation—combined with the shortcomings of the school meals programme—are driving many students away. The impoverishment of families due to high inflation is also forcing children to drop out of school to work. In 2023, 40% of students between the ages of three and 17 attended school irregularly.” ³²

³² Gabriela Mesones Rojo and Iván Reyes, Hunger, healthcare, and schools: Reasons to leave Venezuela (along with a Maduro poll win), The New Humanitarian, Jun. 25, 2024, available at: https://www.thenewhumanitarian.org/analysis/2024/06/25/hunger-healthcare-schools-reasons-leave-venezuela-maduro-poll-win (last visited Sep. 3, 2024).

Economic Crisis

Venezuela “has faced a long-running economic crisis,” ³³ with its economy suffering from “a prolonged meltdown marked by triple-digit inflation and a mass exodus of millions of migrants seeking better prospects elsewhere.” ³⁴ Reporting in July 2024 indicated that over the last 10 years, gross domestic product in Venezuela has declined by about 73%.³⁵ Though Venezuela experienced some economic improvement in 2024,³⁶ it is “insufficient for an economy like Venezuela's, urgently in need of double-digit growth for several years in order to return to what it once was.” ³⁷

³³ Mayela Armas, Venezuela's government doubles down on inflation control ahead of election, Reuters, Feb. 28, 2024, available at: https://www.reuters.com/world/americas/venezuelas-government-doubles-down-inflation-control-ahead-election-2024-02-28/ (last visited Aug. 20, 2024).

³⁴ Mayela Armas, Venezuela economy grew 5% in 2023, will reach 8% this year-Maduro, Reuters, Jan. 15, 2024, available at: https://www.reuters.com/world/americas/venezuela-economy-grew-5-2023-will-reach-8-this-year-maduro-2024-01-15/ (last visited Aug. 20, 2024).

³⁵ Mariela Nava, In Venezuela, hunger stalks presidential election, Reuters, Jul. 9, 2024, available at: https://www.reuters.com/world/americas/venezuela-hunger-stalks-presidential-election-2024-07-09/ (last visited Aug. 20, 2024).

³⁶ Alonso Moleiro, Venezuela experiences an economic recovery in times of electoral uncertainty, El País (Spa.), Jul. 22, 2024, available at: https://english.elpais.com/economy-and-business/2024-07-22/venezuela-experiences-an-economic-recovery-in-times-of-electoral-uncertainty.html (last visited Aug. 20, 2024).

³⁷ Alonso Moleiro, Venezuela experiences an economic recovery in times of electoral uncertainty, El País (Spa.), Jul. 22, 2024, available at: https://english.elpais.com/economy-and-business/2024-07-22/venezuela-experiences-an-economic-recovery-in-times-of-electoral-uncertainty.html (last visited Aug. 20, 2024).

Political Repression & Human Rights

According to the Inter-American Commission on Human Rights (IACHR), Maduro and his representatives have “systematically violated human rights, including freedom of expression, to facilitate the concentration of power in the executive branch, to discourage political participation and to undermine the independence of institutions.” ³⁸ Conditions have grown worse due to harsher crackdowns by Maduro and his representatives on the opposition and their use of thoroughly flawed elections to seize full control of state institutions. Maduro and his representatives have closed off virtually all channels for political dissent, restricting civil liberties and prosecuting perceived opponents without regard for due process.³⁹ Furthermore, the IACHR has reported allegations that “serious human rights violations” have been committed in Venezuela, which, it asserts, “may amount to crimes against humanity.” ⁴⁰ In late June 2023, International Criminal Court judges “authorized the resumption of an investigation into alleged crimes against humanity in Venezuela.” ⁴¹ Human Rights Watch reported that, in September 2023, “the United Nations Fact-Finding Mission (FFM) found serious human rights violations that continued the same patterns of conduct that the FFM had previously qualified as crimes against humanity.” ⁴²

³⁸ Annual Report 2023—Chapter IV.B—Venezuela, Inter-American Commission on Human Rights (IACHR), Apr. 25, 2024, pg. 720, available at: https://www.oas.org/en/iachr/docs/annual/2023/chapters/IA2023_Cap_4B_Venezuela_ENG.PDF (last visited Aug. 30, 2024).

³⁹ Freedom in the World 2024—Venezuela, Freedom House, Feb. 29, 2024, available at: https://freedomhouse.org/country/venezuela/freedom-world/2024 (last visited Aug. 29, 2024).

⁴⁰ Annual Report 2023—Chapter IV.B—Venezuela, Inter-American Commission on Human Rights (IACHR), Apr. 25, 2024, pg. 720, available at: https://www.oas.org/en/iachr/docs/annual/2023/chapters/IA2023_Cap_4B_Venezuela_ENG.PDF (last visited Aug. 30, 2024); International Protection Needs of Venezuelan Nationals, Amnesty International, Oct. 2023, pg. 3, available at: https://www.ecoi.net/en/file/local/2099475/AMR5373312023ENGLISH.pdf (last visited Aug. 30, 2024).

⁴¹ World Report 2024—Venezuela, Human Rights Watch, Jan. 11, 2024, available at: https://www.hrw.org/world-report/2024/country-chapters/venezuela (last visited Aug. 30, 2024).

⁴² World Report 2024—Venezuela, Human Rights Watch, Jan. 11, 2024, available at: https://www.hrw.org/world-report/2024/country-chapters/venezuela (last visited Aug. 30, 2024).

Reports indicate that leading up to the recent Venezuelan presidential election, the electoral process was marred by human rights abuses and irregularities that kept the playing field uneven, with reports of Maduro and his representatives repeatedly committing “systematic human rights violations against critics and opposition leaders.” ⁴³ According to Amnesty International, the election period was marked with escalating repression with “incessant attacks on civic space, tens of arbitrary detentions, enforced disappearances, torture, reprisals against businesses and contractors providing services to opposition figures, and arbitrary and abusive administrative measures.” ⁴⁴

⁴³ Venezuela: Repression Mars Key Upcoming Election, Human Rights Watch, Jul. 25, 2024, available at: https://www.hrw.org/news/2024/07/25/venezuela-repression-mars-key-upcoming-election (last visited Sep. 3, 2024).

⁴⁴ Venezuela: After an electoral period marked by repression, a commitment to human rights is imperative, Amnesty International, Jul. 25, 2024, available at: https://www.amnesty.org/en/latest/news/2024/07/venezuela-after-electoral-period-marked-repression-commitment-human-rights-imperative/ (last visited Sep. 3, 2024).

On July 31, 2024, the Independent International Fact-Finding Mission on the Bolivarian Republic of Venezuela reported that, since the National Electoral Council's declaration that Maduro had won the presidential election in the early morning hours of July 29, “thousands of people—including men, women, children, and the elderly—have taken to the streets across the country to protest the results.” ⁴⁵ In the aftermath of the election, Maduro and his representatives “mounted a furious campaign against anyone challenging the declared results of the vote, unleashing a wave of repression that human rights groups say is unlike anything the country has seen in recent decades.” ⁴⁶

⁴⁵ Venezuela: UN Fact-Finding Mission expresses alarm over human rights violations in post-election context, Office of the High Commissioner for Human Rights (OHCHR), Jul. 31, 2024, available at: https://www.ohchr.org/en/press-releases/2024/07/venezuela-un-fact-finding-mission-expresses-alarm-over-human-rights (last visited Sep. 3, 2024).

⁴⁶ Frances Robles, `Operation Knock-Knock': Venezuela Sweeps Up Dissenters After Disputed Vote, The New York Times, Aug. 10, 2024, available at: https://www.nytimes.com/2024/08/10/world/americas/venezuela-election-maduro.html (last visited Sep. 3, 2024).

Crime & Insecurity

Venezuela was once considered the most dangerous country in Latin America.⁴⁷ However, “a discernible reduction in the overall levels of violence could be observed” in 2023 and 2024.⁴⁸ Various factors behind the apparent decline in crime include the country's “ongoing economic crisis,” which has reportedly reduced “opportunities for extortion and ransom kidnappings,” and led Venezuelan criminal groups to “infiltrate Venezuelan diasporas settled in other Latin American countries.” ⁴⁹ The “monopolization of violence in some regions” by “non-state armed groups,” as well as pacts between Maduro representatives and some criminal groups, have also reportedly contributed to improved perceptions of security in certain areas.⁵⁰

⁴⁷ Venezuela Investigative Unit, Why Is Venezuela's Crime Rate Falling?, InSight Crime, May 28, 2024, available at: https://insightcrime.org/news/venezuela-crime-rate-falling/ (last visited Sep. 3, 2024).

⁴⁸ Annual Report Violence 2023, Venezuelan Violence Observatory (OVV), Dec. 28, 2023, pg. 30, available at: https://observatoriodeviolencia.org.ve/wp-content/uploads/2024/01/OVV-Violence-in-Venezuela-Annual-Report-2023-.pdf (last visited Sep. 3, 2024); Venezuela Investigative Unit, Why Is Venezuela's Crime Rate Falling?, InSight Crime, May 28, 2024, available at: https://insightcrime.org/news/venezuela-crime-rate-falling/ (last visited Sep. 3, 2024).

⁴⁹ Venezuela Investigative Unit, Why Is Venezuela's Crime Rate Falling?, InSight Crime, May 28, 2024, available at: https://insightcrime.org/news/venezuela-crime-rate-falling/ (last visited Sep. 3, 2024).

⁵⁰ Venezuela Investigative Unit, Why Is Venezuela's Crime Rate Falling?, InSight Crime, May 28, 2024, available at: https://insightcrime.org/news/venezuela-crime-rate-falling/ (last visited Sep. 3, 2024).

Nevertheless, Venezuelans continue to “face physical insecurity and violence from several sources, including irregular armed groups, security forces, and organized gangs.” ⁵¹ The European Union Agency for Asylum (EUAA) reported that “Criminal armed groups often operate with the cooperation, or tolerance of state security forces” in Venezuela.⁵² Moreover, security forces in Venezuela have been “accused of committing human rights abuses such as torture and cruel, inhuman and degrading treatment, including sexual and gender-based violence, and killings consistent with extrajudicial executions.” ⁵³

⁵¹ Freedom in the World 2024—Venezuela, Freedom House, Feb. 29, 2024, available at: https://freedomhouse.org/country/venezuela/freedom-world/2024 (last visited Sep. 3, 2024).

⁵² Venezuela—Country Focus, European Union Agency for Asylum (EUAA), Nov. 2023, pg. 42, available at: https://coi.euaa.europa.eu/administration/easo/PLib/2023_11_EUAA_COI_Report_Venezuela_Country_Focus.pdf (last visited Sep. 3, 2024).

⁵³ Venezuela—Country Focus, European Union Agency for Asylum (EUAA), Nov. 2023, pg. 26, available at: https://coi.euaa.europa.eu/administration/easo/PLib/2023_11_EUAA_COI_Report_Venezuela_Country_Focus.pdf (last visited Sep. 3, 2024).

In summary, extraordinary and temporary conditions, including a severe humanitarian emergency marked by an economic contraction, deepening poverty, reduced access to food and medicine, a collapse in basic services, fuel shortages, human rights abuses and political repression, crime and violence continue to prevent Venezuelan nationals from returning in safety.

Based on this review and after consultation with appropriate U.S. Government agencies, the Secretary has determined that:

• The conditions supporting Venezuela's designation for TPS continue to be met. See INA sec. 244(b)(3)(A) and (C), 8 U.S.C. 1254a(b)(3)(A) and (C).

• There continue to be extraordinary and temporary conditions in Venezuela that prevent Venezuelan nationals (or individuals having no nationality who last habitually resided in Venezuela) from returning to Venezuela in safety, and it is not contrary to the national interest of the United States to permit Venezuelan TPS beneficiaries to remain in the United States temporarily. See INA sec. 244(b)(1)(C), 8 U.S.C. 1254a(b)(1)(C).

• The designation of Venezuela for TPS should be extended for an 18-month period, beginning on April 3, 2025, and ending on October 2, 2026. See INA sec. 244(b)(3)(C), 8 U.S.C. 1254a(b)(3)(C).

• There are approximately 607,000 current Venezuelan TPS beneficiaries who are eligible to re-register for TPS under the extension.

Notice of the Designation of Venezuela for TPS

By the authority vested in me as Secretary under INA section 244, 8 U.S.C. 1254a, I have determined, after consultation with the appropriate U.S. Government agencies, the statutory conditions supporting Venezuela's designation for TPS on the basis of extraordinary and temporary conditions are met, and it is not contrary to the national interest of the United States to permit Venezuelan TPS beneficiaries to remain in the United States temporarily. See INA sec. 244(b)(1)(C), 8 U.S.C. 1254a(b)(1)(C). On the basis of this determination, I am extending the existing October 3, 2023 designation of Venezuela for TPS for 18 months, beginning on April 3, 2025, and ending on October 2, 2026. See INA sec. 244(b)(1) and (b)(2); 8 U.S.C. 1254a(b)(1), and (b)(2).

Alejandro N. Mayorkas,
Secretary, U.S. Department of Homeland Security.

Eligibility and Employment Authorization for TPS

Required Application Forms and Application Fees to re-register for TPS:

To re-register for TPS based on the designation of Venezuela, you must submit Form I-821. When filing an application to re-register for TPS, you do not need to pay the application fee; however, you are required to pay the biometric services fee. If you cannot pay the biometric services fee, you may ask USCIS to waive the fee. Please see additional information under the “Biometric Services Fee” section of this notice.

TPS beneficiaries are eligible for an EAD, which proves their authorization to work in the United States. You are not required to submit Form I-765 or have an EAD to be granted TPS, but see below for more information if you want an EAD to use as proof that you can work in the United States.

Individuals who have a Venezuela TPS application (Form I-821) that was still pending as of January 17, 2025, do not need to file the application again. If USCIS approves an individual's Form I-821, USCIS will grant the individual TPS through October 2, 2026.

For more information on the application forms and fees for TPS, please visit the USCIS TPS web page at https://www.uscis.gov/tps. Fees for the Form I-821, the Form I-765, and biometric services are also described in 8 CFR 106.2 and the fee waiver-related regulations in 8 CFR 106.3. In addition, USCIS Form G-1055, Fee Schedule, provides the current fees required for the Form I-821 and Form I-765 for existing TPS beneficiaries who are re-registering.

How Can TPS Beneficiaries Obtain an EAD?

Everyone must provide their employer with documentation showing that they have the legal right to work in the United States. TPS beneficiaries are eligible to obtain an EAD, which proves their legal right to work. If you want to obtain an EAD, you must file Form I-765 and pay the Form I-765 fee (or request a fee waiver, which you may submit on Form I-912). TPS applicants may file this form with their TPS application, or separately later, if their TPS application is still pending or has been approved.

Beneficiaries with a Venezuela TPS-related Form I-765 that was still pending as of January 17, 2025, do not need to file the application again. If USCIS approves a pending TPS-related Form I-765, USCIS will issue the individual a new EAD that will be valid through October 2, 2026.

Can My TPS-Related EAD Be Automatically Extended?

Yes. There are two ways for your TPS-related EAD to be automatically extended. First, if you already have an EAD with a “Card Expires” date of September 10, 2025, April 2, 2025, March 10, 2024, or September 9, 2022, this Federal Register notice automatically extends it through April 2, 2026 without any further action on your part. You do not need to present this FRN or any other additional documentation other than your EAD to use this automatic extension.

Second, you may also be eligible for a longer automatic extension of up to 540 days from the “Card Expires” date on the EAD if you file your Form I-765 EAD renewal application during the re-registration period of January 17, 2025, through September 10, 2025 (“Up to 540-Day Automatic EAD Extension”).⁵⁴ See the section “How can I receive an automatic extension of my current TPS EAD for up to 540 days from the “Card Expires” date on the EAD by filing an EAD renewal application (“Up to 540-Day Automatic EAD Extension”)?” of this Federal Register notice for more information. Your EAD may be eligible for both types of extensions, but in no case will your EAD automatic extension be valid past October 2, 2026. If you take advantage of both types of EAD extensions, the automatic extension periods run concurrently.

⁵⁴ Under 8 CFR 274a.13(d), EADs with category A12 and C19 are eligible for an automatic extension of up to 540 days from the date on the face of the EAD if the bearer's Form I-765 application is properly filed under either the A12 or C19 category and during the re-registration period described in the applicable Federal Register notice.

Filing Information

USCIS offers the option to applicants for TPS under Venezuela's designation to file Form I-821 and related requests for EADs online or by mail. However, if you file Form I-912, Request for Fee Waiver or a written fee waiver request for any applications filed together with your Form I-821, you must submit your applications by mail. When filing a TPS application, you can also request an EAD by submitting a completed Form I-765 with your Form I-821. Under certain circumstances, you may also upload a completed Form I-765 with a fee or fee waiver request, in Portable Document Format (PDF) through your USCIS online account. More information about filing your Form I-765 and fee waiver request through a PDF upload is available at https://www.uscis.gov/newsroom/stakeholder-messages/uscis-launches-online-pdf-filing-option.

Online filing: Form I-821 and Form I-765 are available for concurrent filing online.⁵⁵ To file these forms online, you must first create a USCIS online account.⁵⁶

⁵⁵ Find information about online filing at “Forms Available to File Online,” https://www.uscis.gov/file-online/forms-available-to-file-online.

⁵⁶ https://myaccount.uscis.gov/users/sign_up.

PDF upload: Form I-765, if applicable, and Form I-912, if applicable, are available for PDF upload. To upload these documents, you must first create a USCIS online account.⁵⁷

⁵⁷ https://www.uscis.gov/newsroom/stakeholder-messages/uscis-launches-online-pdf-filing-option. Sign up to create a new USCIS online account at https://myaccount.uscis.gov/users/sign_up.

Mail filing: Mail your completed Form I-821; Form I-765, if applicable; Form I-912, if applicable; and supporting documentation to the proper address in Table 1—Mailing Addresses.

Table 1—Mailing Addresses
If. . . | Mail to. . .
You live in California or Texas and are using U.S. Postal Service (USPS) | USCIS, Attn: TPS Venezuela, P.O. Box 20300, Phoenix, AZ 85036-0300.
You live in California or Texas and are using FedEX, UPS, or DHL | USCIS, Attn: TPS Venezuela (Box 20300), 2108 E. Elliot Rd., Tempe, AZ 85284-1806.
You live in Florida, and you are using the U.S. Postal Service (USPS) | USCIS, Attn: TPS Venezuela, P.O. Box 660864, Dallas, TX 75266-0864.
You live in Florida, and you are using FedEx, UPS, or DHL | USCIS, Attn: TPS Venezuela (Box 660864), 2501 S. State Highway, 121 Business, Suite 400, Lewisville, TX 75067-8003.
You live in Illinois, Indiana, Massachusetts, New Jersey, New York, North Carolina, Utah, or Virginia, and you are using the U.S. Postal Service (USPS) | USCIS, Attn: TPS Venezuela, P.O. Box 4091, Carol Stream, IL 60197-4091.
You live in Illinois, Indiana, Massachusetts, New Jersey, New York, North Carolina, Utah, or Virginia, and you are using FedEx, UPS, or DHL | USCIS, Attn: TPS Venezuela (Box 4091), 2500 Westfield Drive, Elgin, IL 60124-7836.
You live in any other state or territory, and you are using the U.S. Postal Service (USPS) | USCIS, Attn: TPS Venezuela, P.O. Box 805282, Chicago, IL 60680-5285.
You live in any other state or territory, and you are using FedEx, UPS, or DHL | USCIS, Attn: TPS Venezuela (Box 805282), 131 South Dearborn Street, 3rd Floor, Chicago, IL 60603-5517.

If you were granted TPS by an immigration judge (IJ) or the Board of Immigration Appeals (BIA) and you want to request an EAD, you may submit Form I-765 one of three ways: online, mail your Form I-765 to the appropriate address in Table 1, or upload a completed PDF through your USCIS online account. If you file online, you will be prompted to include the fee. If you file by mail, you must include the fee or fee waiver request. If you file by PDF upload, you must include the fee or a fee waiver request. When you request an EAD based on an IJ or BIA grant of TPS, include with your application a copy of the order from the IJ or BIA granting you TPS. This will help us verify your grant of TPS and process your application.

Supporting Documents

The filing instructions for Form I-821 list all the documents you need to re-register for TPS. You may also find information on the acceptable documentation and other requirements for re-registering for TPS on the USCIS website at https://www.uscis.gov/tps under “Venezuela.”

Travel

TPS beneficiaries and TPS applicants with pending Form I-821 applications may also apply for travel authorization, which USCIS may grant as a matter of discretion. You must file for travel authorization if you wish to travel outside of the United States. If USCIS grants travel authorization, it gives you permission to leave the United States and to return to a U.S. port of entry to request re-entry during a specific period. To request travel authorization, you must file Form I-131, available at https://www.uscis.gov/i-131. You may file Form I-131 together with your Form I-821 or separately. When filing Form I-131, a TPS beneficiary must:

• Select Item Number 4 in Part 1 on the Form I-131; and

• Submit the fee for Form I-131, or request a fee waiver, which you may submit on Form I-912.

When filing Form I-131, a TPS applicant with a pending initial Form I-821 must:

• Select Item Number 5C in Part 1 on the Form I-131; and

• Submit the fee for Form I-131, or request a fee waiver, which you may submit on Form I-912.

If you are filing Form I-131 together with Form I-821, send your forms to the address listed in Table 1. If you are filing Form I-131 separately based on a pending or approved Form I-821, send your form to the address listed in Table 2 and include a copy of Form I-797, Notice of Action, or Form I-797C, Notice of Action, indicating either approval or receipt of Form I-821. Form I-131 may not be filed by PDF upload.

Table 2—Mailing Addresses
If you are. . . | Mail to. . .
Filing Form I-131 together with Form I-821 | The address provided in Table 1.
Filing Form I-131 based on a pending or approved Form I-821, and you are using the U.S. Postal Service (USPS) | USCIS, Attn: I-131 TPS, P.O. Box 660167, Dallas, TX 75266-0867.
You must include a copy of the Notice of Action (Form I-797C or I-797) showing USCIS received or approved your Form I-821 |
Filing Form I-131 based on a pending or approved Form I-821, and you are using FedEx, UPS, or DHL | USCIS, Attn: I-131 TPS, 2501 S. State Hwy. 121 Business, Ste. 400, Lewisville, TX 75067.
You must include a copy of the Notice of Action (Form I-797C or I-797) showing USCIS received or approved your Form I-821 |

Biometric Services Fee for TPS:

Biometrics (such as fingerprints) are required for all applicants, in addition to a biometric services fee. As previously stated, if you cannot pay the biometric services fee, you may request a fee waiver, which you may submit on Form I-912. For more information on the application forms and fees for TPS, please visit the USCIS TPS web page at https://www.uscis.gov/tps. USCIS may require you to visit an Application Support Center to have your biometrics collected. For additional information on the USCIS biometric screening process, please see the USCIS Customer Profile Management Service Privacy Impact Assessment, available at https://www.dhs.gov/publication/dhsuscispia-060-customer-profile-management-service-cpms.

General Employment-Related Information for TPS Applicants and Their Employers

How can I obtain information on the status of my TPS application and EAD request?

To get case status information about your TPS application, as well as the status of your TPS-based EAD request, you can check Case Status Online at https://uscis.gov or visit the USCIS Contact Center at https://www.uscis.gov/contactcenter. If you still need assistance, you may ask a question about your case online at https://egov.uscis.gov/e-request/Intro.do or call the USCIS Contact Center at 800-375-5283 (TTY 800-767-1833).

Am I eligible to receive an automatic extension of my current EAD through April 2, 2026, through this Federal Register notice (“FRN-Based Automatic EAD Extension”)?

Yes. Regardless of your country of birth, if you currently have a Venezuela TPS-based EAD with the notation A12 or C19 under Category and a “Card Expires” date of September 10, 2025, April 2, 2025, March 10, 2024, or September 9, 2022, this Federal Register notice automatically extends your EAD through April 2, 2026, without any further action on your part. Although this Federal Register notice automatically extends your EAD through April 2, 2026, you still must timely re-register for TPS by filing Form I-821 in accordance with the procedures described in this Federal Register notice to maintain your TPS. You also should file your Form I-765 timely to avoid possible gaps in your employment authorization documentation.

How can I receive an automatic extension of my current TPS EAD for up to 540 days from the “Card Expires” date on the EAD by filing an EAD renewal application (“Up to 540-Day Automatic EAD Extension”)?

You qualify for this other type of automatic EAD extension if:

• You properly file your renewal Form I-765 during the TPS re-registration period which is January 17, 2025, through September 10, 2025; and

• Your Form I-765 EAD renewal application is under category A12 or C19.

As long as the categories listed on your EAD and Form I-797C receipt notice are A12 or C19, they don't need to be the same. (For example, your EAD may still be automatically extended for up to 540 days if your facially expired or expiring EAD says C19 and your renewal application says A12.)

For purposes of your employer verifying your employment eligibility on the Form I-9, if you choose to complete your Form I-9 using the “Up to 540-Day Automatic EAD Extension,” the automatic extension period starts from the “Card Expires” date on your EAD. You may use the EAD Automatic Extension Calculator available at https://www.uscis.gov/eadautoextend to determine the automatically extended expiration date.

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three business days of hire, employees must present acceptable documents to their employers as evidence of identity and employment authorization to satisfy Form I-9 requirements.

You may present one selection from List A (which provides evidence of both identity and employment authorization) or one selection from List B (which provides evidence of your identity) together with one selection from List C (which provides evidence of employment authorization), or you may present an acceptable receipt as described in these lists. Employers may not reject a document based on a future expiration date. You can find additional information about Form I-9 on the I-9 Central web page at https://www.uscis.gov/I-9Central. An EAD is an acceptable document under List A. See the section “How do my employer and I complete Form I-9 using my automatically extended EAD for a new job?” of this Federal Register notice for more information.

A. FRN-based Automatic EAD Extension. If your EAD states A12 or C19 under Category and has a “Card Expires” date of September 10, 2025, April 2, 2025, March 10, 2024, or September 9, 2022, this Federal Register notice extends it automatically, and you may choose to present your EAD to your employer as proof of identity and employment eligibility for Form I-9 through April 2, 2026. Your country of birth noted on the EAD does not have to reflect the TPS-designated country of Venezuela for you to be eligible for this extension. You may, but are not required to, show this Federal Register notice to your employer to explain what to do for Form I-9 and to show that USCIS has automatically extended your EAD through April 2, 2026.

B. Up to 540-day Automatic EAD Extension. To show that you qualify for this extension, present:

1. Your EAD with a Category Code of A12 or C19 and

2. Your Form I-797C, Notice of Action, for your Form I-765 renewal EAD application showing a Category Code of A12 or C19. The “Received Date” on this notice must fall within the re-registration period described in this FRN, which is from January 17, 2025, through September 10, 2025.

The A12 or C19 categories on your Form I-797C, Notice of Action, and facially expired or expiring A12 or C19 EAD do not need to match, as long as each lists A12 or C19 as the category. (For example, your EAD may still be automatically extended for up to 540 days if your EAD says C19 and your renewal application says A12.)

What documentation may I present to my employer for Form I-9 if I am already employed but my current TPS-related EAD is set to expire?

Your employer is required by law to ask you about your continued employment authorization. Your employer may need to reexamine your automatically extended EAD to check the “Card Expires” date and Category code if your employer did not keep a copy of your EAD when you initially presented it. Once your employer has reviewed the “Card Expires” date and Category code, they should update the EAD expiration date in Section 2 of Form I-9. See the section “What updates should my current employer make to Form I-9 if my EAD has been automatically extended?” of this Federal Register notice for more information.

A. FRN-based Automatic EAD Extension. If you choose to use the automatic EAD extension based on this Federal Register notice, you may show this Federal Register notice to your employer to explain what to do for Form I-9 and to show that USCIS has automatically extended your EAD through April 2, 2026; however, you are not required to do so. The last day of this automatic EAD extension is April 2, 2026. Before you start work on April 3, 2026, your employer is required by law to reverify your employment authorization on Form I-9.

B. Up to 540-day Automatic EAD Extension. If you filed your EAD renewal application during the re-registration period indicated in this Federal Register notice and choose to have your EAD automatically extended for up to 540 days from the “Card Expires” date on your EAD, but no later than October 2, 2026, present:

1. Your facially expired or expiring EAD with a Category Code of A12 or C19, and

2. The Form I-797C, Notice of Action, showing a Category Code of A12 or C19. The “Received Date” on this notice must fall within the re-registration period described in this FRN, which is from January 17, 2025, through September 10, 2025.

By the end date of your automatic EAD extension, you must present any document from List A or any document from List C on Form I-9 Lists of Acceptable Documents, or an acceptable List A or List C receipt described in these lists to reverify employment authorization.

Your employer may not specify which List A or List C document you must present and cannot reject an acceptable receipt.

If I have an EAD based on another immigration status, can I obtain a new TPS-based EAD?

Yes, if you are eligible for TPS, you can obtain a new TPS-based EAD, even if you already have an EAD or employment authorization based on another immigration status. If you want to obtain a new TPS-based EAD valid through October 2, 2026, you must file Form I-765 and pay the associated fee (unless USCIS grants your fee waiver request).

Can my employer require that I provide any other documentation to complete Form I-9, such as evidence of my status, proof of my Venezuelan citizenship, or a Form I-797 showing that I registered for TPS?

No. When completing Form I-9, employers must accept any documentation you choose to present from the Form I-9 Lists of Acceptable Documents that reasonably appears to be genuine and that relates to you, or an acceptable List A, List B, or List C receipt. Employers may not request other documentation, such as proof of Venezuelan citizenship or proof of registration for TPS, when completing Form I-9 for new hires or reverifying the employment authorization of current employees. If you present an EAD that USCIS has automatically extended, employers should accept it as a valid List A document if the EAD reasonably appears to be genuine and to relate to you. Refer to the “Note to Employees” section of this Federal Register notice for important information about your rights if your employer rejects lawful documentation, requires additional documentation, or otherwise discriminates against you based on your citizenship or immigration status or your national origin.

How do my employer and I complete Form I-9 using my automatically extended EAD for a new job?

A. FRN-based Automatic EAD Extension. When using this this type of automatically extended EAD to complete Form I-9 for a new job before April 3, 2026:

1. For Section 1, you should:

a. Check “A noncitizen authorized to work until” and enter October 2, 2026, as the “expiration date”; and

b. Enter your USCIS number or A-Number where indicated. (Your EAD or other document from DHS will have your USCIS number or A-Number printed on it; the USCIS number is the same as your A-Number without the A prefix.)

2. For Section 2, employers should:

a. Determine whether the EAD is auto-extended by ensuring it is in category A12 or C19 and has a “Card Expires” date of September 10, 2025, April 2, 2025, March 10, 2024, or September 9, 2022;

b. Write in the document title;

c. Enter the issuing authority;

d. Provide the document number; and

e. Write April 2, 2026, as the expiration date.

Before the start of work on April 3, 2026, employers must reverify the employee's employment authorization on Form I-9.

B. Up to 540-day Automatic EAD Extension. If you filed your EAD renewal application during the re-registration period indicated in this Federal Register notice and choose to have your EAD automatically extended for up to 540 days from the “Card Expires” date on your EAD:

1. For Section 1, you should:

a. Check “A noncitizen authorized to work until;” and

b. Enter your USCIS number or A-Number where indicated. (Your EAD or other document from DHS will have your USCIS number or A-Number printed on it; the USCIS number is the same as your A-Number without the A prefix.)

c. Enter October 2, 2026 as the expiration date.

2. In Section 2, in the List A column, the employer must:

a. Determine whether the EAD is automatically extended by ensuring it is in category A12 or C19 and that your Form I-797C indicates that you filed your Form I-765 renewal EAD application under Category A12 or C19 and during the re-registration period indicated in this Federal Register notice;

b. Write in the document title;

c. Enter the issuing authority;

d. Provide the document number; and

e. In the Expiration Date field, enter the date 540 days from the “Card Expires” date on the EAD. This date may not be later than October 2, 2026. Use the Automatic Extension Eligibility Calculator at https://www.uscis.gov/eadautoextend to calculate your new EAD expiration date.

f. Employers should also enter “EAD EXT” in the Additional Information field.

What updates should my current employer make to Form I-9 if my EAD has been automatically extended?

If you presented a TPS-related EAD that was valid when you first started your job and USCIS has now automatically extended your EAD, your employer may need to re-examine your current EAD if they do not have a copy of the EAD on file. Your employer should determine whether your EAD is automatically extended by ensuring that it contains Category A12 or C19.

A. FRN-based automatic EAD Extension. If you are relying on an FRN-based automatic EAD extension, your employer should examine your EAD to see if it has a “Card Expires” date of September 10, 2025, April 2, 2025, March 10, 2024, or September 9, 2022. Your employer may not rely on the country of birth listed on the card to determine whether you are eligible for this extension.

If your employer determines that USCIS has automatically extended your EAD through this Federal Register notice, they should update Section 2 of your previously completed Form I-9 as follows:

1. Write EAD EXT and April 2, 2026, as the last day of the automatic extension in the Additional Information field; and

2. Initial and date the correction.

Note: This is not considered a reverification. Employers do not reverify the employee until either the automatic extension has ended, or the employee presents a new document to show continued employment authorization, whichever is sooner. By the date that the employee's automatically extended EAD expires, employers are required by law to reverify the employee's employment authorization on Form I-9.

B. Up to 540-day Automatic EAD Extension. If you are relying on an up to 540-day automatic EAD extension, your employer must also examine your Form I-797C indicating receipt of your Form I-765 renewal EAD application to determine if it was filed under Category A12 or C19 and during the re-registration period indicated in this Federal Register notice. Your employer will need to update Form I-9 by entering the appropriate automatic EAD extension expiration date and “EAD EXT” in the Section 2 Additional Information field. The new up to 540-day EAD extension expiration date starts from the “Card Expires” date on the face of your current EAD, not to exceed the TPS designation end date indicated in this Federal Register notice. Use the Automatic Extension Eligibility Calculator at https://www.uscis.gov/eadautoextend to calculate your new EAD expiration date.

Note: This information also applies if you initially presented a TPS-related EAD that was automatically extended by the FRN-Based Automatic EAD Extension and later obtained an up to 540-day automatic EAD extension.

If I am an employer enrolled in E-Verify, how do I verify a new employee whose EAD has been automatically extended?

Employers may create a case in E-Verify for a new employee by entering the EAD document number and expiration date from Section 2 of Form I-9 into the corresponding fields in E-Verify.

If I am an employer enrolled in E-Verify, what do I do when I receive a “Work Authorization Documents Expiring” alert for an automatically extended EAD?

If you have an employee who provided a TPS-related EAD when they first started working for you, you will receive a “Work Authorization Documents Expiring” case alert when the auto-extension period for this EAD is about to expire. You must reverify your employee's employment authorization on Form I-9 by the date their automatic EAD extension ends. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English, Spanish, and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in many languages. Employers may also email IER at IER@usdoj.gov or get more information online at https://www.justice.gov/ier.

Note to Employees

For general questions about the employment eligibility verification process, employees may call USCIS at 888-897-7781 (TTY 877-875-6028) or email USCIS at I-9Central@uscis.dhs.gov. USCIS accepts calls and emails in English, Spanish and many other languages. Employees or job applicants may also call the U.S. Department of Justice, Civil Rights Division, Immigrant and Employee Rights Section (IER) Worker Hotline at 800-255-7688 (TTY 800-237-2515) for information regarding employment discrimination based on citizenship, immigration status, or national origin, including discrimination related to Form I-9 and E-Verify. The IER Worker Hotline provides language interpretation in many languages.

To comply with the law, employers must accept any document or combination of documents from the Lists of Acceptable Documents if the documentation reasonably appears to be genuine and to relate to the employee, or an acceptable List A, List B, or List C receipt as described in these lists. Employers may not require extra or additional documentation other than what is required to complete Form I-9. Further, employers participating in E-Verify who receive an E-Verify case result of “Tentative Nonconfirmation” (mismatch) must promptly inform employees of the mismatch and give these employees an opportunity to resolve the mismatch. A mismatch means that the information entered into E-Verify from Form I-9 differs from records available to DHS.

Employers may not terminate, suspend, delay training, withhold or lower pay, or take any adverse action against an employee because of a mismatch while the case is still pending with E-Verify. A Final Nonconfirmation (FNC) case result occurs if E-Verify cannot confirm an employee's employment eligibility. An employer may terminate employment based on a case result of FNC. Employment-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

For Federal purposes, if you present an EAD that has been automatically extended by this Federal Register notice, you do not need to show any other document, such as a Form I-797C, Notice of Action, reflecting receipt of a Form I-765 EAD renewal application or this Federal Register notice, to prove that you qualify for this extension. If you are presenting an EAD extended by an up to 540-day extension, you will need to show your Form I-797C, Notice of Action, reflecting receipt of your Form I-765. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary or applicant, show you are authorized to work based on TPS or other status, or that may be used by DHS to determine if you have TPS or another immigration status. Examples of such documents are:

• Your current EAD with a TPS category code of A12 or C19, even if your country of birth noted on the EAD does not reflect the TPS-designated country of Venezuela;

• Your Form I-94, Arrival/Departure Record;

• Your Form I-797, Notice of Action, reflecting approval of your Form I-765; or

• Form I-797 or Form I-797C, Notice of Action, reflecting approval or receipt of a past or current Form I-821, if you received one from USCIS.

Check with the government agency requesting documentation about which document(s) the agency will accept.

Some state and local government agencies use SAVE, https://www.uscis.gov/save, to confirm the current immigration status of applicants for public benefits. While SAVE can verify that an individual has TPS or a pending TPS application, each agency's procedures govern whether they will accept an unexpired EAD, Form I-797, Form I-797C, or Form I-94. If an agency accepts the type of TPS-related document you present, such as an EAD, the agency should accept your automatically extended EAD, regardless of the country of birth listed on the EAD. It may assist the agency if you:

a. Give the agency a copy of the relevant Federal Register notice showing the extension of TPS-related documentation in addition to your recent TPS-related document with your A-Number, USCIS number, or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed.

You can check the status of your SAVE verification by using CaseCheck at https://www.uscis.gov/save/save-casecheck. CaseCheck is a free service that lets you follow the progress of your SAVE verification case using your date of birth and one immigration identifier number (such as your A-Number, USCIS number, or Form I-94 number) or Verification Case Number. If an agency has denied your application based solely or in part on a SAVE response, the agency must allow you to appeal the decision in accordance with the agency's procedures. If the agency has received and acted on or will act on a SAVE verification and you do not believe the SAVE response is correct, the SAVE website, https://www.uscis.gov/save/for-benefit-applicants, has detailed information on how to correct or update your immigration record, make an appointment, or submit a written request to correct records.

[FR Doc. 2025-00769 Filed 1-13-25; 8:45 am]

BILLING CODE 9111-97-P